DEPARTMENT OF THE TREASURY

Bureau of Alcohol, Tobacco and Firearms

[Docket No. 928; ATF O 1130.20]

Delegation Order—Delegation of the Director's Authorities in 27 CFR Part 170, Miscellaneous Regulations Relating to Liquor

To: All Bureau Supervisors

1. PURPOSE. This order delegates certain authorities of the Director to subordinate ATF officers and prescribes the subordinate ATF officers with whom persons file documents which are not ATF forms.

2. CANCELLATION. This order cancels ATF O 1100.85B, Delegation Order—Delegation to the Associated Director (Compliance Operations) of Authorities of the Director in 27 CFR Part 170, Miscellaneous Liquor Regulations.

3. BACKGROUND. Under current regulations, the Director has authority to take final action on matters relating to the manufacture, removal, and use of stills and condensers, and to the notice, registration, and recordkeeping requirements established under Chapter 51 of the Internal Revenue Code of 1986. We have determined that certain of these authorities should, in the interest of efficiency, be delegated to a lower organizational level.

4. DELEGATIONS. Under the authority vested in the Director, Bureau of Alcohol, Tobacco and Firearms, by Treasury Department Order No. 120-1 (formerly 221), dated June 6, 1972, and by 26 CFR 301.7701-9, this ATF order delegates certain authorities to take final action prescribed in 27 CFR part 170 to subordinate officers. Also, this ATF Order prescribes the subordinate ATF officers with whom applications, notices, and reports required by 27 CFR part 170, which are not ATF forms, are filed. The attached table identifies the regulatory sections, documents and authorized ATF officers. The authorities in the table may not be redelegated. An ATF organization chart showing the directorates involved in this delegation order has been attached.

5. QUESTIONS. Any questions concerning this order should be directed to the Regulations Division at 202-927-8210.

Bradley A. Buckles,
Director.

[FR Doc. 01-22847 Filed 9-11-01; 8:45 am]

BILLING CODE 4810-31-C